DEPARTMENT OF AGRICULTURE

Grain Inspection, Packers and Stockyards Administration

Designation of Detroit Grain Inspection Service, Inc. To Provide Class X or Class Y Weighing Services

AGENCY: Grain Inspection, Packers and Stockyards Administration, USDA.

ACTION: Notice.

SUMMARY: GIPSA is announcing the designation of Detroit Grain Inspection Service, Inc. (Detroit) to provide Class X or Class Y weighing services under the United States Grain Standards Act (USGSA), as amended.

DATES: Effective Date: October 18, 2013.

ADDRESSES: Eric J. Jabs, Chief, USDA, GIPSA, FGIS, QACD, QADB, 10383 North Ambassador Drive, Kansas City, MO 64153.

FOR FURTHER INFORMATION CONTACT: Eric J. Jabs, 816-659-8408 or ric.J.Jabs@usda.gov.

SUPPLEMENTARY INFORMATION: In the February 26, 2013 Federal Register (78 FR 13015), GIPSA announced the designation of Detroit to provide official services under the USGSA, effective April 1, 2013 to March 31, 2016. Subsequently, Detroit asked GIPSA to amend their designation to include official weighing services. Section 79a of the USGSA authorizes the Secretary to designate authority to perform official weighing to an agency providing official inspection services within a specified geographic area, if such agency is qualified under section 79 of the USGSA. GIPSA evaluated information regarding the designation criteria in section 79 of the USGSA and determined that Detroit is qualified to provide official weighing services in their currently assigned geographic area.

Detroit's designation is amended to include Class X or Class Y weighing within their assigned geographic area, effective October 18, 2013 to March 31, 2016.

Interested persons may obtain official services by contacting Detroit at (810) 404-3786.

Authority: 7 U.S.C. 71-87k.

Larry Mitchell,
Administrator, Grain Inspection, Packers and Stockyards Administration.

[FR Doc. 2014-00891 Filed 1-16-14; 8:45 am]

BILLING CODE 3410-KD-P